DEPARTMENT OF COMMERCE

Foreign-Trade Zones Board

[Docket 57-2008]

Foreign-Trade Zone 21—Charleston, SC; Application for Subzone Status; William Powell Company dba Starflo Corporation; (Industrial Valves); Manning, SC

An application has been submitted to the Foreign-Trade Zones (FTZ) Board (the Board) by the South Carolina State Ports Authority, grantee of FTZ 21, requesting special-purpose subzone status for the industrial valve warehousing and distribution facility of William Powell Company (Powell) dba Starflo Corporation, located in Manning, South Carolina. The application was submitted pursuant to the provisions of the Foreign-Trade Zones Act, as amended (19 U.S.C. 81a-81u), and the regulations of the Board (15 CFR Part 400). It was formally filed on October 8, 2008.

The proposed subzone would include Powell's warehousing facility (10 employees, 96,000 sq. ft., 25 acres) located at 1568 JD Rogers Boulevard in Manning, South Carolina. The facility is used for the warehousing, distribution, and repair of foreign-origin and domestic industrial valve equipment (duty rates range from 3 percent to 5.6 percent) for the U.S. market and export. FTZ procedures would be utilized to support Powell's distribution activity that competes with facilities located abroad.

FTZ procedures would exempt Powell from Customs duty payments on foreign products that are re-exported. Some ten percent of the facility's shipments are exported. On domestic sales, the company would be able to defer payment until merchandise is shipped from the facility and entered for U.S. consumption. Powell also plans to realize logistical benefits through the use of weekly customs entry procedures. The application indicates that all of the above-cited savings from FTZ procedures would help improve the facility's international competitiveness.

In accordance with the Board's regulations, Kathleen Boyce of the FTZ Staff is designated examiner to investigate the application and report to the Board.

Public comment is invited from interested parties. Submissions (original and 3 copies) shall be addressed to the Board's Executive Secretary at the address below. The closing period for their receipt is December 16, 2008. Rebuttal comments in response to material submitted during the foregoing period may be submitted during the subsequent 15-day period (to December 31, 2008).

A copy of the application and accompanying exhibits will be available for public inspection at each of the following locations: U.S. Department of Commerce Export Assistance Center, 1362 McMillan Avenue, Suite 100, North Charleston, South Carolina 29405; and, the Office of the Executive Secretary, Foreign-Trade Zones Board, Room 2111, U.S. Department of Commerce, 1401 Constitution Avenue, NW., Washington, DC 20230.

For further information, contact Kathleen Boyce at 202-482-1346 or Kathleen_Boyce@ita.doc.gov.

Dated: October 8, 2008.
Andrew McGilvray,
Executive Secretary.

[FR Doc. E8-24756 Filed 10-16-08; 8:45 am]

BILLING CODE 3510-DS-P